DEPARTMENT OF AGRICULTURE

Animal and Plant Health Inspection Service

9 CFR Parts 71, 83, and 93

[Docket No. APHIS-2007-0038]

RIN 0579-AC74

Viral Hemorrhagic Septicemia; Interstate Movement and Import Restrictions on Certain Live Fish

AGENCY: Animal and Plant Health Inspection Service, USDA.

ACTION: Interim rule; delay of effective date.

SUMMARY: On September 9, 2008, we published an interim rule in the Federal Register(73 FR 52173-52189) to restrict the interstate movement and importation into the United States of live fish that are susceptible to viral hemorrhagic septicemia, a highly contagious disease of certain freshwater and saltwater fish. That interim rule was scheduled to become effective on November 10, 2008. We are delaying the effective date of the interim rule until January 9, 2009. This delay will provide APHIS with time to consider all comments and make some adjustments to the interim rule that may be necessary in order to successfully implement it.

DATES: The effective date for the interim rule amending 9 CFR parts 71, 83, and 93, published at 73 FR 52173-52189 on September 9, 2008, is delayed until January 9, 2009.

FOR FURTHER INFORMATION CONTACT: Dr. P. Gary Egrie, Senior Staff Veterinary Medical Officer, National Center for Animal Health Programs, VS, APHIS, 4700 River Road Unit 46, Riverdale, MD 20737-1231; (301) 734-0695; or Dr. Peter L. Merrill, Senior Staff Veterinarian, National Center for Import and Export, VS, APHIS, 4700 River Road Unit 39, Riverdale, MD 20737-1231; (301) 734-8364.

SUPPLEMENTARY INFORMATION:

Background

Viral hemorrhagic septicemia (VHS) is a highly contagious disease of certain freshwater and saltwater fish, caused by a rhabdovirus. It is listed as a notifiable disease by the World Organization for Animal Health. The pathogen produces variable clinical signs in fish including lethargy, skin darkening, exophthalmia, pale gills, a distended abdomen, and external and internal hemorrhaging. The development of the disease in infected fish can result in substantial mortality. Other infected fish may not show any clinical signs or die, but may be lifelong carriers and shed the virus.

On September 9, 2008, we published an interim rule in the Federal Register(73 FR 52173-52189, Docket No. APHIS-2007-0038) to amend 9 CFR parts 71, 83, and 93 by establishing regulations to restrict the interstate movement and the importation into the United States of certain live fish species that are susceptible to VHS. We announced that the provisions of the interim rule would become effective November 10, 2008, and that we would consider all comments on the interim rule received on or before November 10, 2008, and all comments on the environmental assessment for the interim rule received on or before October 9, 2008.

Delay of Effective Date

Since publication of the interim rule, we have received comments that address a variety of issues. These issues include the feasibility of the requirement in the interim rule for a visual inspection of regulated fish 72 hours prior to shipment, the provision that Interstate Certificates of Inspection allowing interstate movement of live fish will be valid for 30 days from the date of issuance, and the provision that laboratory testing is valid for 30 days from the date of sample collection for fish held in a water source that is not a secure water source.

Based on our review of the comments received to date, we consider it advisable to delay the effective date of the interim rule from November 10, 2008, until January 9, 2009, while retaining November 10, 2008, as the close of the comment period for the interim rule and October 9, 2008, as the close of the comment period for the environmental assessment. This additional time will allow APHIS to consider all comments and make some adjustments to the interim rule that may be necessary in order to successfully implement it.

Authority: 7 U.S.C. 1622 and 8301-8317; 21 U.S.C. 136 and 136a; 31 U.S.C. 9701; 7 CFR 2.22, 2.80, and 371.4.

Done in Washington, DC, this 22nd day of October 2008.
Kevin Shea,
Acting Administrator, Animal and Plant Health Inspection Service.

[FR Doc. E8-25663 Filed 10-27-08; 8:45 am]

BILLING CODE 3410-34-P